DEPARTMENT OF AGRICULTURE

Forest Service

Revised Notice of Intent for the South Fourth of July Timber Sale Environmental Impact Statement

SUMMARY: A Notice of Intent was published in the Federal Register, Vol. 64, No. 215, Monday, November 8, 1999, P. 60764, announcing the preparation of an Environmental Impact Statement for the South Fourth of July Timber Sale. Since the publication of the Notice of Intent, the name of the proposal has been changed to the South Fourth of July Ecosystem Restoration Project. Publication of the Draft and Final Environmental Impact Statements will be under that name.

DATES: June 2, 2000.

FOR FURTHER INFORMATION CONTACT: Questions concerning the proposed action and Environmental Impact Statement should be directed to Barbara Levesque at the Salmon-Cobalt Ranger District, Salmon-Challis National Forest, RR2 Box 600, Salmon, Idaho 83467.

George Matejko,
Forest Supervisor.

[FR Doc. 00-14582 Filed 6-13-00; 8:45 am]

BILLING CODE 3410-11-M